DEPARTMENT OF THE INTERIOR

National Park Service

Final Commercial Services Plan and Final Environmental Impact Statement, Glacier National Park, Montana

AGENCY: National Park Services, Department of the Interior.

ACTION: Notice of availability of a record of decision on the final environmental impact statement for the final commercial services plan, Glacier National Park, Montana.

SUMMARY: Pursuant to § 102(2)(C) of the National Environmental Policy Act of 1969, Stat. 852, 853, codified as amended at 42 U.S.C. 4332(2)(C), the National Park Service announces the availability of the Record of Decision for the Final Commercial Services Plan and Final Environmental Impact Statement, Glacier National Park, Montana. On August 20, 2004, the Director, Intermountain Region approved the Record of Decision for the project. As soon as practicable the National Park Service will begin to implement the Preferred Alternatives contained in the FEIS issued on July 9, 2004. The following actions were summarized from the Record of Decision and will occur under the preferred alternatives. The Final Commercial Services Plan identified a vision for commercial services in the park, identified those services that are “necessary and appropriate” according to criteria developed in accordance with Title IV of the National Parks Omnibus Management Act of 1998. Standards and prescriptions were developed to further describe how each service will be provided. The Plan also refined the visitor services zone as conceptually described in Glacier National Park's General Management Plan—1999. Overall, the Plan maintains what currently exists in the park, however the operation dates for each of the developed areas have been increased slightly and the number of overnight rooms in the park can be increased from 512 to 540. The necessary and appropriate services that were addressed specifically include Granite Park Chalet, Commercially Guided Day Hiking, Guided Underwater Diving tours, Firewood Sales, Public Showers, Interpretive Boat tours and Boat Taxi or Boat Transportation Services, Motor Vehicle tours, Taxi Service, Shuttling of Private Vehicles, Public Transportation Service, Horseback Riding and Packing Services, Step-On Guide Service and Commercially Guided Bicycle Tours. Each developed area was also addressed that contained commercial services. These were Apgar Village, Lake McDonald, Two Medicine, Rising Sun, Many Glacier, and Swiftcurrent developed areas. A number of other actions will be implemented such as improved interpretation and orientation at each developed area, upgraded facilities to comply with life safety, accessibility and building codes, and boat rentals will be provided by the boat tour concessioner at existing locations. A more complete list is in the Record of Decision and the Final Commercial Services Plan. A number of mitigation measures will be adhered to during construction and or operation of the commercial services. These measures are in addition to any other federal, state or local permits and requirements and specific protection guidelines to preserve park resources. They are listed in detail in the Final Commercial Services Plan and Final Environmental Impact Statement.

These actions and alternatives were analyzed in the Draft and Final Environmental Impact Statements. The full range of foreseeable environmental consequences were assessed, and appropriate mitigation measures were identified.

The Record of Decision includes a statement of the decision made, synopses of other alternatives considered, the basis for the decision, a description of the environmentally preferable alternative, a finding on impairment of park resources and values, a listing of measures to minimize environmental harm, an overview of public involvement in the decision-making process, and a Statement of Findings.

FOR FURTHER INFORMATION CONTACT: Mary Riddle, Glacier National Park, West Glacier, Montana, 59936. (406) 888-7898, mary_riddle@nps.gov.

SUPPLEMENTARY INFORMATION: Copies of the Record of Decision may be obtained from the contact listed above or online at http://www.nps.gov/glac/plans.htm.

Dated: September 16, 2004.
Michael D. Snyder,
Deputy Director, Intermountain Region, National Park Service.

[FR Doc. 05-983 Filed 1-18-05; 8:45 am]

BILLING CODE 4312-HY-M